DEPARTMENT OF COMMERCE

Foreign-Trade Zones Board

[B-70-2019]

Foreign-Trade Zone (FTZ) 183—Austin, Texas; Notification of Proposed Production Activity; Flextronics America, LLC; (Automated Data Processing Machines); Austin, Texas

Flextronics America, LLC (Flextronics), submitted a notification of proposed production activity to the FTZ Board for its facility in Austin, Texas. The notification conforming to the requirements of the regulations of the FTZ Board (15 CFR 400.22) was received on November 3, 2019.

Flextronics already has authority to produce automated data processing machines within FTZ 183. The current request would add foreign status components to the scope of authority. Pursuant to 15 CFR 400.14(b), additional FTZ authority would be limited to the specific foreign-status components described in the submitted notification (as described below) and subsequently authorized by the FTZ Board.

Production under FTZ procedures could exempt Flextronics from customs duty payments on the foreign-status materials/components used in export production. On its domestic sales, for the foreign-status components noted below, Flextronics would be able to choose the duty rates during customs entry procedures that apply to automated data processing machines (duty-free). Flextronics would be able to avoid duty on foreign-status components which become scrap/waste. Customs duties also could possibly be deferred or reduced on foreign-status production equipment.

The components sourced from abroad include: Labels; corrugated pack boxes; print bundles—instruction manuals and start-up directions; caster wheel assemblies; keyboards; computer mice; trackpads; graphics processing modules; main logic boards; graphics performance enhancers; basic input/output system (BIOS) printed circuit boards; structural frames for automatic data processing machines; structural enclosures for automatic data processing machines; main logic board stiffener assemblies; internal component support units; and, power supply units (duty rate ranges from duty-free to 5.8%). The request indicates that the following components are subject to an antidumping/countervailing duty (AD/CVD) order if imported from certain countries: labels; caster wheel assemblies; structural frames for automatic data processing machines; structural enclosures for automatic data processing machines; main logic board stiffener assemblies; and, internal component support units. The FTZ Board's regulations (15 CFR 400.14(e)) require that merchandise subject to AD/CVD orders, or items which would be otherwise subject to suspension of liquidation under AD/CVD procedures if they entered U.S. customs territory, be admitted to the zone in privileged foreign status (19 CFR 146.41). The request also indicates that certain components are subject to special duties under Section 301 of the Trade Act of 1974 (Section 301), depending on the country of origin. The applicable Section 301 decisions require subject merchandise to be admitted to FTZs in privileged foreign status.

Public comment is invited from interested parties. Submissions shall be addressed to the Board's Executive Secretary and sent to: ftz@trade.gov. The closing period for their receipt is December 23, 2019.

A copy of the notification will be available for public inspection in the “Reading Room” section of the Board's website, which is accessible via www.trade.gov/ftz.

For further information, contact Christopher Wedderburn at Chris.Wedderburn@trade.gov or (202) 482-1963.

Dated: November 6, 2019.
Andrew McGilvray,
Executive Secretary.

[FR Doc. 2019-24641 Filed 11-12-19; 8:45 am]

BILLING CODE 3510-DS-P